DEPARTMENT OF HEALTH AND HUMAN SERVICES

Administration for Children and Families

Submission for OMB Review; Comment Request

Title: Federal Parent Locator Service.

OMB No.: 0970-0142.

Description: State and local child support enforcement agencies may request that the Federal Parent Locator Service (FPLS) assist in locating parents in order to establish or enforce child support. The FPLS serves as a conduit between child support enforcement offices and Federal and state agencies by conducting weekly, biweekly, or monthly matches of the collected information with various agencies and distributing the information back to the requesting state or local child support office.

Respondents: State and local IV-D child support offices.

Annual Burden Estimates

Instrument | Number of respondents | Number of responses per respondent | Average burden hours per response (hour) | Total burden hours
FPLS submissions | 5 | 24 | 1 | 120
Estimated Total Annual Burden Hours |  |  |  | 120

Additional Information

Copies of the proposed collection may be obtained by writing to The Administration for Children and Families, Office of Information Services, 370 L'Enfant Promenade, SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: March 10, 2003.
Bob Sargis,
Reports Clearance Officer.

[FR Doc. 03-6152 Filed 3-13-03; 8:45 am]

BILLING CODE 4184-01-M